DEPARTMENT OF HEALTH AND HUMAN SERVICES

Centers for Disease Control and Prevention

National Center for Environmental Health/Agency for Toxic Substances and Disease Registry; The Health Department Subcommittee (HDS) of the Board of Scientific Counselors (BSC); Centers for Disease Control and Prevention (CDC); National Center for Environmental Health/Agency for Toxic Substances and Disease Registry(NCEH/ATSDR); Meeting

In accordance with section 10(a)(2) of the Federal Advisory Committee Act (Pub. L. 92-463), CDC, NCEH/ATSDR announces a meeting of the aforementioned subcommittee.

Time and Date: 5 p.m.-7 p.m. Eastern Standard Time, December 5, 2006.

Place: Hilton Atlanta Hotel, 255 Courtland Street, Atlanta, Georgia 30303.

Status: Open to the public, limited by the available space. The meeting room accommodates approximately 50 people.

Purpose: Under the charge of the BSC, NCEH/ATSDR, the HDS will provide the BSC, NCEH/ATSDR with advice and recommendations on local and state health department issues and concerns that pertain to the mandates and mission of NCEH/ATSDR.

Matters To Be Discussed: A review of agenda and approval of November conference call minutes; discussion of workforce accomplishments; update on BSC presentation; discussion of external membership recommendations; discussion of BSC presentation; discussion of measures to improve NCEH/ATSDR interaction with local health departments; and next steps.

Agenda items are subject to change as priorities dictate.

Due to programmatic matters, this Federal Register Notice is being published on less than 15 calendar days notice to the public (41 CFR 102-3.150(b)).

Contact Person for More Information: Shirley D. Little, Committee Management Specialist, Office of Science, NCEH/ATSDR, 1600 Clifton Road, NE., M/S E-28, Atlanta, Georgia 30333, telephone 404-498-0615.

The Director, Management Analysis and Services Office, has been delegated the authority to sign Federal Register notices pertaining to announcements of meetings and other committee management activities for both CDC and NCEH/ATSDR.

Dated: November 14, 2006.
Alvin Hall,
Director, Management Analysis and Services Office, Centers for Disease Control and Prevention.

[FR Doc. E6-19544 Filed 11-17-06; 8:45 am]

BILLING CODE 4163-18-P